DEPARTMENT OF AGRICULTURE

Food and Nutrition Service

Agency Information Collection Activities: Federal-State Supplemental Nutrition Programs Agreement (Form FNS-339)

AGENCY: Food and Nutrition Service (FNS), USDA.

ACTION: Notice.

SUMMARY: In accordance with the Paperwork Reduction Act of 1995, this notice invites the general public and other public agencies to comment on this proposed information collection. This collection is a revision of a currently approved collection of information relating to the reporting and recordkeeping burden associated with completing, submitting, and maintaining form FNS-339, the Federal-State Supplemental Nutrition Programs Agreement for the administration of the Special Supplemental Nutrition Program for Women, Infants and Children (WIC); the WIC Farmers' Market Nutrition Program (FMNP); and/or the Seniors Farmers' Market Nutrition Program (SFMNP).

DATES: Written comments must be received on or before January 11, 2022.

ADDRESSES: Comments may be sent to: Sara Olson, Chief, Policy Branch, Supplemental Food Programs Division, Food and Nutrition Service, U.S. Department of Agriculture, Braddock Metro Center II, 1320 Braddock Place, Room 328, Alexandria, VA 22314. Comments may also be submitted via fax to the attention of Sara Olson at 703-305-2086 or via email to Sara.Olson@.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Sara Olson at 703-305-2085 or via email to sara.olson@usda.gov.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Federal-State Supplemental Nutrition Programs Agreement (formerly titled WIC Federal and State Agreement).

Form Number: FNS-339.

OMB Number: 0584-0332.

Expiration Date: April 30, 2022.

Type of Request: Revision of a currently approved collection.

Abstract: The Federal-State Supplemental Nutrition Programs Agreement (form FNS-339) is an annual contract between the U.S. Department of Agriculture (USDA) and each State, Territory, and Indian Tribal Government agency seeking to operate one or more of the following programs: The Special Supplemental Nutrition Program for Women, Infants and Children (WIC), the WIC Farmers' Market Nutrition Program (FMNP), and the Seniors Farmers' Market Nutrition Program (SFMNP). The Food and Nutrition Service (FNS), of the USDA, is authorized to administer the WIC and the FMNP Programs under the following authority: Section 17 of the Child Nutrition Act (CNA) of 1966, as amended, and the SFMNP under 7 U.S.C. 3007.

The FNS-339 requires the signature of the Chief State agency official and includes a certification/assurance regarding drug free workplace, a certification regarding lobbying, and a disclosure of lobbying activities. The signed agreement thereby authorizes USDA/FNS to make funds available to State agencies for the administration of the WIC, FMNP, and/or SFMNP Programs within the State, Indian Tribal Organizations, District of Columbia, and Territories, and in accordance with 7 Code of Federal Regulations (CFR) parts 246, 248, and 249. The State agency agrees to accept Federal funds for expenditure in accordance with applicable statutes and regulations and to comply with all the provisions of such statutes and regulations, and amendments thereto.

This information collection is requesting a revision in the responses due to adjustments that primarily reflect expected changes in the number of WIC, FMNP, and/or SFMNP State agencies from year to year. The number of respondents (agencies administering the WIC, FMNP and/or SFMNP Programs) has decreased from 129 to 127. This adjustment decreases the number of responses for this collection from 258 to 254 responses. There is no change in the burden hours for this collection (although the adjustment decreases the total annual burden from 32.35 hours to 31.75 hours, the reported burden hours for this revision will be rounded to 32 hours so the burden hours will not change from the 32 hours currently reported). The title of this information collection has been changed to Federal-State Supplemental Nutrition Programs Agreement to reflect the current title of form FNS-339.

Affected Public: State, Territory, and Indian Tribal Government Agencies. This includes the State agencies that administer the WIC, FMNP, and SFMNP programs.

Estimated Number of Respondents: The total estimated number of respondents is 127. This includes an unduplicated count of respondents that are responsible for the operation of 89 WIC Programs, 50 FMNP Programs, and 55 SFMNP Programs: 3 State agencies solely operate the FMNP program; 20 State agencies solely operate the SFMNP program; 15 State agencies operate both the FMNP and SFMNP programs; 54 State agencies solely operate the WIC program; 15 State agencies operate both the WIC and FMNP programs; 3 State agencies operate both the WIC and SFMNP programs; and 17 State agencies operate the WIC, FMNP, and SFMNP programs.

Estimated Number of Responses per Respondent: 2: There is one response per agency for the completion of the FNS-339 and one response per agency to photocopy and maintain a record of the FNS-339. The FNS-339 allows State agencies to select one or more of the Program(s) which they administer (WIC/FMNP/SFMNP).

Estimated Total Annual Responses: 254 responses; (127 for reporting and 127 for recordkeeping).

Estimated Time per Response: The estimated time per response for the reporting and recordkeeping requirements in this collection is .125 hours (approximately 7.5 minutes). It takes respondents approximately 7.5 minutes (0.125 hours) to read and sign the required form. Additionally, respondents spend another 7.5 minutes (0.125 hours) making photocopies and filing each year.

Estimated Total Annual Burden on Respondents: The total estimated annual burden for reporting is 15.875 and the total estimated annual burden for recordkeeping is 15.875 for a grand total estimate of 31.75 hours. See the table below for the estimated total annual burden for each type of respondent and activity.

Respondents | Form | Estimated number of respondents | Responses annually per respondent | Total annual responses | Estimated average number of hours per response | Estimated total annual burden hours
Reporting Burden
State, Territory, and Indian Tribal Government Agencies (Respondent types: WIC—89; FMNP—50; SFMNP—55) | FNS-339 | 127 | 1 | 127 | 0.125 | 15.875
Recordkeeping Burden
State, Territory, and Indian Tribal Government Agencies (Respondent types: WIC—89; FMNP—50; SFMNP—55) | FNS-339 | 127 | 1 | 127 | 0.125 | 15.875
Total Reporting and Recordkeeping Burden |  | * 127 | 2 | 254 | 0.125 | 31.75
* This includes an unduplicated count of respondents that are responsible for the operation of 89 WIC Programs, 50 FMNP Programs, and 55 SFMNP Programs: 3 State agencies solely operate the FMNP program; 20 State agencies solely operate the SFMNP program; 15 State agencies operate both the FMNP and SFMNP programs; 54 State agencies solely operate the WIC program; 15 State agencies operate both the WIC and FMNP programs; 3 State agencies operate both the WIC and SFMNP programs; and 17 State agencies operate the WIC, FMNP, and SFMNP programs.

Cynthia Long,
Administrator, Food and Nutrition Service.

[FR Doc. 2021-24651 Filed 11-10-21; 8:45 am]

BILLING CODE 3410-30-P